ENVIRONMENTAL PROTECTION AGENCY

Gulf of Mexico Program Policy Review Board; Notice of Charter Renewal

AGENCY: Environmental Protection Agency (EPA).

ACTION: Notice of Charter Renewal.

Notice is hereby given that the Environmental Protection Agency (EPA) has determined that, in accordance with the provisions of the Federal Advisory Committee Act (FACA), 5 U.S.C. App. 2, the Gulf of Mexico Program Policy Review Board (GMPPRB) is a necessary committee which is in the public interest.

Accordingly, GMPPRB will be renewed for an additional two-year period. The purpose of GMPPRB is to provide advice and recommendations to the Administrator of EPA on issues associated with plans to improve and protect the water quality and living resources of the Gulf of Mexico.

Inquiries may be directed to Gloria Car, Designated Federal Officer, U.S. EPA, Gulf of Mexico Program Office (Mail Code: EPAIGMPO), Stennis Space Center, MS, 39529, Telephone (228) 688-2421, or car.gloria@epa.gov.

Dated: November 18, 2008.
Benjamin Grumbles,
Assistant Administrator, Office of Water.

[FR Doc. E8-27857 Filed 11-24-08; 8:45 am]

BILLING CODE 6560-50-M